DEPARTMENT OF HOMELAND SECURITY

Coast Guard

33 CFR Part 165

[Docket No. USCG-2016-0954]

Eighth Coast Guard District Annual Safety Zones; Duquesne Light/Santa Spectacular; Monongahela River Mile 0.00-0.22, Allegheny River Mile 0.00-0.25, Ohio River Mile 0.0-0.3; Pittsburgh, Pennsylvania

AGENCY: Coast Guard, DHS.

ACTION: Notice of enforcement of regulation.

SUMMARY: The Coast Guard will enforce a safety zone for the Duquesne Light/Santa Spectacular on the Monongahela River mile 0.00-0.22, Allegheny River mile 0.00-0.25, and Ohio River mile 0.0-0.3 extending the entire width of the three rivers. This zone is needed to protect vessels transiting the area and event spectators from the hazards associated with the barge based firework event. During the enforcement period, entry into, transiting, or anchoring in the safety zone is prohibited to all vessels not registered with the sponsor as participants or official patrol vessels, unless specifically authorized by the Captain of the Port (COTP) Pittsburgh or a designated representative.

DATES: The regulations in 33 CFR 165.801 Table 1, Sector Ohio Valley, No. 66 will be enforced from 8 p.m. until 9:15 p.m. on November 18, 2016.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the Safety Zone for the annual Pittsburgh Santa Spectacular listed in 33 CFR 165.801 Table 1, Sector Ohio Valley, No. 66 from 8 p.m. to 9:15 p.m. on November 18, 2016. This action is being taken to provide for the safety of life on navigable waterways during the marine event. Entry into the safety zone is prohibited unless authorized by the COTP or a designated representative. Persons or vessels desiring entrance into or passage through the safety zone must request permission from the COTP or a designated representative. If permission is granted, all persons and vessels shall comply with the instructions of the COTP or designated representative. Vessels may safely transit outside the regulated area but may not anchor, block, loiter in, or impede the regulated area.

This notice of enforcement is issued under authority of 33 CFR 165.801 and 5 U.S.C. 552(a). In addition to this notice in the Federal Register, the Coast Guard will provide the maritime community with advance notification of this enforcement period via Local Notice to Mariners and updates via Marine Information Broadcasts.

L. Mcclain, Jr.,
Commander, U.S. Coast Guard, Captain of the Port Pittsburgh.

[FR Doc. 2016-27003 Filed 11-8-16; 8:45 am]

BILLING CODE 9110-04-P